DEPARTMENT OF TRANSPORTATION

Office of the Secretary

National Advisory Committee on Travel and Tourism Infrastructure; Notice of Public Meeting

AGENCY: Department of Transportation.

ACTION: Notice of public meeting.

SUMMARY: This notice announces the first meeting of the National Advisory Committee on Travel and Tourism Infrastructure (NACTTI). At the meeting, members will be sworn-in and begin a discussion of the work they will undertake during their appointment term. The agenda and any additional information for the meeting will be posted, at least one week in advance of the meeting, on the Department of Transportation Web site at https://www.transportation.gov/NACTTI.

DATES: The meeting will be held on December 8, 2016, from 1:00 p.m. to 5:00 p.m., and December 9, 2016, from 9 a.m. to 5 p.m., EDT.

ADDRESSES: The meeting will be held at Federal Aviation Administration, 800 Independence Avenue SW., Washington, DC 20591. Individuals wishing for audio participation and any person requiring accessibility accommodations should contact the Official listed in the for further information contact section.

FOR FURTHER INFORMATION CONTACT: Anthony Robinson, Special Advisor, U.S. Department of Transportation, Office of the Secretary, at NACTTI@dot.gov or (202) 366-9977. Also visit the NACTTI Internet Web site at http://www.transportation.gov/NACTTI.

SUPPLEMENTARY INFORMATION:

I. Background

NACTTI was created in accordance with Section 1431 of the Fixing America's Surface Transportation (FAST) Act (Pub. L. 114-94: Dec. 4, 2015; Stat 1312) to provide information, advice, and recommendations to the Secretary of Transportation on matters related to the role of intermodal transportation in facilitating mobility related to travel and tourism activities.

II. Public Participation

The meeting will be open to the public on a first-come, first served basis, as space is limited. Members of the public who wish to attend in-person are asked to register, including name and affiliation, to NACTTI@dot.gov by December 1, 2016. Individuals requesting accessibility accommodations, such as sign language, interpretation, or other ancillary aids, may do so via email at: NACTTI@dot.gov by December 1, 2016.

There will be 30 minutes allotted for oral comments from members of the public joining the meeting. To accommodate as many speakers as possible, the time for public comments may be limited to 5 minutes per person. Individuals wishing to reserve speaking time during the meeting must submit a request at the time of registration, as well as the name, address, and organizational affiliation of the proposed speaker. If the number of registrants requesting to make statements is greater than can be reasonably accommodated during the meeting, the Office of the Secretary may conduct a lottery to determine the speakers. Speakers are requested to submit a written copy of their prepared remarks by 5:00 p.m. EDT on December 1, 2016, for inclusion in the meeting records and for circulation to NACTTI members.

Persons who wish to submit written comments for consideration by NACTTI must send them via email to NACTTI@dot.gov any time before or after the meeting. To be considered during the meeting, comments must be received no later than 5:00 p.m. EDT on December 1, 2016, to ensure transmission to NACTTI prior to the meeting. Comments received after that date and time will be distributed to the members but may not be reviewed prior to the meeting.

Copies of the meeting minutes will be available within 90 days of the meeting on the NACTTI Internet Web site at http://www.transportation.gov/NACTTI.

Jenny T. Rosenberg,
Acting Assistant Secretary for Aviation and International Affairs.

[FR Doc. 2016-27925 Filed 11-18-16; 8:45 am]

BILLING CODE 4910-9X-P